DEPARTMENT OF HEALTH AND HUMAN SERVICES

Centers for Disease Control and Prevention

Disease, Disability, and Injury Prevention and Control Special Emphasis Panel (SEP): Funding Opportunity Announcement, Initial Review

The meeting announced below concerns Indoor Environment of Low-Income Renovated Multifamily Housing in the Western Region of the United States (U01), FOA EH13-001, initial review.

SUMMARY: This document corrects a notice that was published in the Federal Register on February 28, 2013 (78 FR 13677). The meeting announcement and matters to be discussed should read as follows:

The meeting announced below concerns Indoor Environment of Low-Income Renovated Multifamily Housing in the Western Region of the United States (U01), FOA EH13-001, initial review.

Matters To Be Discussed: The meeting will include the initial review, discussion, and evaluation of applications received in response to “Indoor Environment of Low-Income Renovated Multifamily Housing in the Western Region of the United States (U01), FOA EH13-001”.

FOR FURTHER INFORMATION CONTACT: J. Felix Rogers, Ph.D., M.P.H., Scientific Review Officer, CDC, 4770 Buford Highway NE., Mailstop F63, Atlanta, Georgia 30341, Telephone: (770) 488-4334.

The Director, Management Analysis and Services Office, has been delegated the authority to sign Federal Register notices pertaining to announcements of meetings and other committee management activities, for both the Centers for Disease Control and Prevention and the Agency for Toxic Substances and Disease Registry.

Dana Redford,
Acting Director, Management Analysis and Services Office, Centers for Disease Control and Prevention.

[FR Doc. 2013-06434 Filed 3-20-13; 8:45 am]

BILLING CODE 4163-18-P